NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) Advisory Committee (#1173) (Virtual).

Date and Time: June 11, 2020; 1:00 p.m.-5:30 p.m.; June 12, 2020; 10:00 a.m.-3:30 p.m.

Place: National Science Foundation, 2415 Eisenhower Avenue, Alexandria, VA 22314 (Virtual).

The meeting will be held virtually among the CEOSE members. Public visitors will be able to listen telephonically. Connection information will be made available on the CEOSE website at least two weeks prior to the meeting at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: June 11, 2020

• Welcome, Introductions, Opening Remarks

• Report of the CEOSE Executive Liaison

• Panel: BP Implications of Institutional Practices and COVID-19

• Discussion: Data Issues and New Ideas for the Women, Minority, and Person with Disabilities Digest

• Presentation: NSF INCLUDES Update

• Discussion: Overview of the Next CEOSE Biennial Report and Plans for the Next Day

Day 2: June 12, 2020

• Welcome and Recap of Day One

• Working Session: 2019-2020 CEOSE Report

• Reports of the CEOSE Executive Liaisons

• Panel: From Leadership Development to Leadership at the Top

• Announcements, Closing Remarks, and Adjournment

Dated: May 6, 2020.
Crystal Robinson,
Committee Management Officer.

[FR Doc. 2020-10014 Filed 5-8-20; 8:45 am]

BILLING CODE 7555-01-P